DEPARTMENT OF TRANSPORTATION

Federal Aviation Administration

14 CFR Part 39

[Docket No. FAA-2007-0214; Directorate Identifier 2007-NM-224-AD]

RIN 2120-AA64

Airworthiness Directives; McDonnell Douglas Model 717-200 Airplanes

AGENCY: Federal Aviation Administration (FAA), Department of Transportation (DOT).

ACTION: Notice of proposed rulemaking (NPRM).

SUMMARY: The FAA proposes to adopt a new airworthiness directive (AD) for certain McDonnell Douglas Model 717-200 airplanes. This proposed AD would require installing an additional support bracket for the gray water drain hose, replacing the screw of the support bracket with a new screw for the potable water supply hose, installing a spacer, doing a detailed inspection to detect interference or wear damage on hoses, lines and/or cables, and doing corrective actions if necessary. This proposed AD results from reports of interference between the potable water supply hose and/or gray water drain hose at the aft lavatories with the fuel line and/or power feeder cables of the auxiliary power unit (APU) located below the aft cabin floor. We are proposing this AD to prevent interference and chafing between the potable water supply hose and/or gray water hose with the fuel line and/or power feeder cables of the APU, which may cause arcing and sparking, and/or fuel leaking, and consequent fire or explosion.

DATES: We must receive comments on this proposed AD by January 7, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Ken Sujishi, Aerospace Engineer, Cabin Safety/Mechanical and Environmental Systems Branch, ANM-150L, FAA, Los Angeles Aircraft Certification Office, 3960 Paramount Boulevard, Lakewood, California 90712-4137; telephone (562) 627-5353; fax (562) 627-5210.

SUPPLEMENTARY INFORMATION:

Comments Invited

We invite you to send any written relevant data, views, or arguments about this proposed AD. Send your comments to an address listed under the ADDRESSES section. Include “Docket No. FAA-2007-0214; Directorate Identifier 2007-NM-224-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of interference between the potable water supply hose and/or gray water drain hose at the aft lavatories with the fuel line and/or power feeder cables of the auxiliary power unit (APU) located below the aft cabin floor, on McDonnell Douglas Model 717-200 airplanes. A production quality line check determined that, due to a manufacturing process error, airplanes were delivered with a potable water drain hose that does not conform to design specifications. As a result, the potable water supply hose and/or gray water hose causes chafing with the fuel line and/or power feeder cables of the APU. These conditions, if not corrected, may cause arcing and sparking, and/or fuel leaking, and consequent fire or explosion.

Relevant Service Information

We have reviewed Boeing Alert Service Bulletin 717-38A0004, Revision 1, dated August 15, 2007. The service bulletin describes the following procedures:

• Installing an additional support bracket for the gray water drain hose.

• Replacing the screw of the support bracket of the potable water supply hose with a new screw and installing a spacer.

• Doing detailed inspections to detect interference or wear damage of the potable water supply hose, gray water drain hose, and fuel lines and power feeder cables of the auxiliary power unit.

• Doing applicable corrective actions. The corrective actions include repairing power feeder cables and fuel lines of the APU, and contacting Boeing for repair, as applicable.

Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Difference Between the Proposed AD and Service Bulletin.”

Difference Between the Proposed AD and Service Bulletin

Although the service bulletin specifies that operators may contact the manufacturer for disposition of certain repair conditions, this proposed AD would require operators to repair those conditions using a method approved by the FAA.

Costs of Compliance

There are about 123 airplanes of the affected design in the worldwide fleet. This proposed AD would affect about 95 airplanes of U.S. registry. The proposed actions would take about 70 work hours per airplane, at an average labor rate of $80 per work hour. The manufacturer states that it will supply required parts to the operators at no cost. Based on these figures, the estimated cost of the proposed AD for U.S. operators is $532,000, or $5,600 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2007-0214; Directorate Identifier 2007-NM-224-AD.

Comments Due Date

(a) The FAA must receive comments on this AD action by January 7, 2008.

Affected ADs

(b) None.

Applicability

(c) This AD applies to McDonnell Douglas Model 717-200 airplanes, certificated in any category; as identified in Boeing Alert Service Bulletin 717-38A0004, Revision 1, dated August 15, 2007.

Unsafe Condition

(d) This AD results from reports of interference between the potable water supply hose and/or gray water drain hose at the aft lavatories with the fuel line and/or power feeder cables of the auxiliary power unit (APU) located below the aft cabin floor. We are issuing this AD to prevent interference and chafing between the potable water supply hose and/or gray water hose with the fuel line and/or power feeder cables of the APU, which may cause arcing and sparking, and/or fuel leaking, and consequent fire or explosion.

Compliance

(e) You are responsible for having the actions required by this AD performed within the compliance times specified, unless the actions have already been done.

Installations, Replacements, Inspections, and Corrective Actions

(f) Within 27 months after the effective date of this AD, do the installations, replacement, inspections, and applicable corrective actions by accomplishing all the actions specified in the Accomplishment Instructions of Boeing Alert Service Bulletin 717-38A0004, Revision 1, dated August 15, 2007; except as provided by paragraph (g) of this AD. The applicable corrective actions must be done before further flight.

(g) If any discrepancy is found during any inspection required by this AD, and Boeing Alert Service Bulletin 717-38A0004, Revision 1, dated August 15, 2007, specifies to contact Boeing for appropriate

Before further flight, repair the discrepancy in accordance with a method approved by the Manager, Los Angeles Aircraft Certification Office (ACO), FAA. For a repair method to be approved, the repair must meet the certification basis of the airplane, and the approval must specifically refer to this AD.

Credit for Actions Done Using the Previous Service Information

(h) Actions accomplished before the effective date of this AD in accordance with Boeing Service Bulletin 717-38A0004, dated December 6, 2006, is considered acceptable for compliance with the corresponding actions specified in paragraph (f) of this AD.

Alternative Methods of Compliance (AMOCs)

(i)(1) The Manager, Los Angeles ACO, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on November 13, 2007.
Ali Bahrami,
Manager, Transport Airplane Directorate, Aircraft Certification Service.

[FR Doc. E7-22727 Filed 11-20-07; 8:45 am]

BILLING CODE 4910-13-P